NATIONAL AERONAUTICS AND SPACE ADMINISTRATION

[Notice 00-141]

Nondiscrimination on the Basis of Sex in Education Programs or Activities Receiving Federal Financial Assistance

AGENCY: National Aeronautics and Space Administration (NASA).

ACTION: Notice of programs and activities receiving financial assistance from the National Aeronautics and Space Administration that are covered by Title IX of the Education Amendments of 1972, as amended.

SUMMARY: In accordance with subpart F of the final common rule for the enforcement of Title IX of the Education Amendments of 1972, as amended, 20 U.S.C. 1681, et seq. (“Title IX”) this notice lists those programs and activities that receive financial assistance from NASA and are covered by Title IX. Title IX prohibits recipients of Federal financial assistance from discriminating on the basis of sex in education programs or activities. Subpart F requires each Federal agency that awards Federal financial assistance to publish in the Federal Register a notice of the programs covered by the Title IX regulations within sixty (60) days after the effective date (September 29, 2000) of the final common rule. The final common rule for the enforcement of Title IX was published in the Federal Register by twenty (20) Federal agencies, including NASA, on August 30, 2000, (65 FR 52857-52895).

DATES: Effective December 12, 2000.

ADDRESSES: Address comments concerning this notice to the Office of Equal Opportunity Programs, Code EI, NASA Headquarters, 300 E Street, SW, Room 4W31, Washington, DC 20546.

FOR FURTHER INFORMATION CONTACT: Mr. Frederick J. Dalton, 202-358-0958, or TDD: 202-358-3748.

SUPPLEMENTARY INFORMATION: Title IX prohibits recipients of Federal financial assistance from discriminating on the basis of sex in educational programs or activities. Specifically, the statute states that “[n]o person in the United States shall, on the basis of sex, be excluded from participation in, be denied the benefits of, or be subjected to discrimination under any education program or activity receiving Federal financial assistance,” with specific exceptions for various entities, programs, and activities. 20 U.S.C. 1681(a). This statute was modeled after Title VI of the Civil Rights Act of 1964, 42 U.S.C. 2000d et seq., which prohibits discrimination on the basis of race, color, and national origin in all programs or activities that receive Federal financial assistance. The goal of Title IX is to ensure that Federal funds are not utilized for and do not support sex-based discrimination, and that individuals have equal opportunities, without regard to sex, to pursue, engage or participate in, and benefit from academic, extracurricular, research, occupational training, employment, or other educational programs or activities.

List of Federal Financial Assistance Administered by the National Aeronautics and Space Administration to Which Title IX Applies

Note: All recipients of Federal financial assistance from GSA are subject to Title IX, but Title IX's anti-discrimination prohibitions are limited to the educational components of the recipient's program or activity, if any. Failure to list a type of Federal assistance below shall not mean, if Title IX is otherwise applicable, that a program or activity is not covered by Title IX.

1. Grants that provides funding to recipients for the purpose of supporting or stimulating research, education, and training, without substantial involvement by NASA in the activity supported by the financial assistance. The four types of grants NASA provides are as follows:

a. Research Grant—A Research Grant is an agreement used to stimulate or support research in areas such as space science, earth science, the solar system, the universe, human activity in space, advanced aeronautics, and related technologies. Usually, research grants are in excess of one year in duration.

b. Education Grant—An Education Grant is an agreement that provides funds to an educational institution or other non-profit organizations for the purposes of:

(1) Capturing student interest and/or improving student performance in science, mathematics, technology, or related fields;

(2) Enhancing the skill, knowledge, or ability of teachers or faculty members in science, mathematics, or technology;

(3) Supporting national educational support movements;

(4) Conducting pilot programs or research to increase participation and/or to enhance performance in science, mathematics, or technology education at all levels; and

(5) Developing instructional materials (e.g., teacher guides, printed publications, computer software, and videotapes) or networked information services for education.

c. Training Grant—A Training Grant is an agreement that provides funds to an educational institution or other non-profit organization solely by providing scholarships, fellowships, or stipends to students, teachers, and/or faculty. NASA training grants are awarded to colleges, universities, or other non-profit organizations; not to individual students, teachers, or faculty members. Students and faculty receiving direct support under a NASA Training Grant must be U.S. citizens.

d. Facilities Grant—A Facilities Grant is used to provide for the acquisition, construction, use, maintenance, and disposition of facilities. For the purposes of this type of grant, facilities means property used for production, maintenance, research, development, or testing.

2. Cooperative Agreements that is used to transfer something of value to recipients in order to support and stimulate research, with substantial involvement between NASA and the recipient during the performance of the activity.

Grants and Cooperative Agreements are made under the authority of NASA's organic statute, The National Aeronautics and Space Act of 1958 (Space Act), as amended, 42 U.S.C. 2451 et seq., and the National Space Grant College and Fellowship Act, 42 U.S.C. 2486-2486l. In addition to the grants and cooperative agreements discussed above, the Space Act allows NASA to enter into other agreements in order to meet its wide-ranging mission and program requirements and objectives. Arrangements to receive a copy of NASA's federal financial assistance programs in an alternative format may be made by contacting the named individual.

George E. Reese,
Associate Administrator for Equal Opportunity Programs.

[FR Doc. 00-31490 Filed 12-11-00; 8:45 am]

BILLING CODE 7510-01-P